ENVIRONMENTAL PROTECTION AGENCY

[EPA-HQ-OPP-2010-0539; FRL-9377-9]

Pesticides; Draft Guidance for Pesticide Registrants on Antimicrobial Pesticide Products With Mold-Related Label Claims; Notice of Availability; Extension of Comment Period

AGENCY: Environmental Protection Agency (EPA).

ACTION: Notice; extension of comment period.

SUMMARY: EPA issued a draft Pesticide Registration (PR) notice in the Federal Register issue of December 12, 2012, requesting comments on Guidance for Antimicrobial Pesticide Products with Mold-Related Label Claims. This document extends the comment period for 60 days, from February 11, 2013 to April 12, 2013.

DATES: Comments, identified by docket identification (ID) number EPA-HQ-OPP-2010-0539 must be received on or before April 12, 2013.

ADDRESSES: Follow the detailed instructions as provided under ADDRESSES in the Federal Register document of December 12, 2012.

FOR FURTHER INFORMATION CONTACT: Melba S. Morrow, Antimicrobials Division (7510P), Office of Pesticide Programs, Environmental Protection Agency, 1200 Pennsylvania Ave. NW., Washington, DC 20460-0001; telephone number: (703) 308-2716; email address: morrow.melba@epa.gov.

SUPPLEMENTARY INFORMATION: This document extends the public comment period established in the Federal Register issue of December 12, 2012 (77 FR 74003) (FRL-9362-3). In that document, EPA requested comment on a draft PR notice that provided guidance for antimicrobial pesticide products with mold-related claims. In response to comments from stakesholders requesting additional time to comment, EPA is hereby extending the comment period. The comment period, which was set to end on February 11, 2013, is extended to April 12, 2013.

To submit comments, or access the docket, please follow the detailed instructions as provided under ADDRESSES in the December 12, 2012 Federal Register document. If you have questions, consult the person listed under FOR FURTHER INFORMATION CONTACT.

List of Subjects

Environmental protection, Administrative practice and procedure, Agricultural commodities, Pesticides and pests.

Dated: February 5, 2013.
Steven Bradbury,
Director, Office of Pesticide Programs.

[FR Doc. 2013-03032 Filed 2-8-13; 8:45 am]

BILLING CODE 6560-50-P